DEPARTMENT OF HOUSING AND URBAN DEVELOPMENT

[Docket No. FR-4950-C-20]

Notice of HUD's Fiscal Year (FY) 2005 Notice of Funding Availability, Policy Requirements and General Section to SuperNOFA for HUD's Discretionary Grant Programs; Correction

AGENCY: Office of the Secretary, HUD.

ACTION: Super Notice of Funding Availability (SuperNOFA) for HUD Discretionary Grant Programs; correction.

SUMMARY: On March 21, 2005, HUD published its Fiscal Year (FY) 2005, Notice of Funding Availability (NOFA), Policy Requirements and General Section to the SuperNOFA for HUD's Discretionary Grant Programs. This document makes corrections to the Section 811 Supportive Housing for Persons with Disabilities Program (Section 811 Program). This notice also extends the application submission date for the Section 811 Program. These changes affect the Section 811 program NOFA but do not affect the application packages on Grants.gov.

DATES: The application submission date for Section 811 Program is June 10, 2005. The application submission dates for all other program sections of the SuperNOFA remain as published in the Federal Register on March 21, 2005.

FOR FURTHER INFORMATION CONTACT: Please contact Frank Tolliver, Project Manager, at 202-708-3000 (this is not a toll-free number), or access the Internet at http://www.hud.gov/offices/adm/grants/fundsavail.cfm. Persons with hearing or speech impairments may access the above number through TTY by calling the toll-free Federal Relay Service at 800-877-8339.

SUPPLEMENTARY INFORMATION: On March 21, 2005 (70 FR 13575), HUD published its Notice of HUD's Fiscal Year (FY) 2005, Notice of Funding Availability (NOFA), Policy Requirements and General Section to the SuperNOFA for HUD's Discretionary Grant Programs. The FY2005 SuperNOFA announced the availability of approximately $2.26 billion in HUD assistance. This notice published in today's Federal Register makes technical corrections to the Section 811 Program.

Summary of Technical Correction

A summary of the technical corrections made by this document follows. The page number shown in brackets identifies where the Section 811 Program NOFA that is being corrected can be found in the March 21, 2005, SuperNOFA. The technical correction described in today's Federal Register will also be reflected in the application instructions located on Grants.gov/Apply. Applicants are encouraged to read the instructions located on Grants.gov/Apply prior to submitting their application.

Section 811 Program of Supportive Housing for Persons With Disabilities [Page 14227]

On page 14228, Overview Information, section F., first column, consistent with Section 102 of the HUD Reform Act of 1989 (42 U.S.C. 3545), the application submission date is extended to June 10, 2005.

On page 14229, section II.A., third column, HUD is clarifying the reference to “each local HUD office” in the description of the process for allocating Section 811 funds by adding language to clarify that the Washington, DC Office is excluded from references to “each local HUD office.”

On page 14236, section IV.A., first column, HUD is clarifying the application and submission information by adding a note at the end of the first paragraph explaining the procedures for the electronic filing of Section 811 applications for those cases involving a single application from multiple applicants.

On page 14243, section IV.B.2.d.(3), third column, HUD is adding a new paragraph (m) that will explain the use of Form HUD-96011, Facsimile Transmittal, which is to be used for faxing third party letters and other documents with the electronic application in accordance with the instructions in the General Section.

On page 14255, section IV.E.5., middle column, HUD misstated the requirements of the Consolidated Appropriations Act, 2005. As a result, HUD is correcting this paragraph.

On page 14256, section V.A.1.c., first column, HUD is correcting a typo. The words “36 points” should have read, “36 months.”

On page 14256, section V.A.2., middle and third columns, HUD is deleting the third paragraph that begins at the bottom of the middle column and continues to the third column. HUD is also revising section V.A.2.(a) which begins in the third column. The revised paragraph explains that if a determination has been made that there is sufficient sustainable long-term demand for additional supportive housing for persons with disabilities in the area to be served, the project is to be awarded 10 points. If not, the project is to be awarded 0 points. No other point values are allowed.

On page 14262, Appendix A, Local HUD Offices, paragraph 2.c., is amended to make it clear that HUD will accept applications for proposals to be located in Washington, DC and that if an applicant receives a waiver of the electronic application submission requirement for a proposal to be located in Washington, DC, the application must be submitted to the HUD Baltimore, Maryland Office.

On page 14267, Appendix A, Local HUD Offices, HUD is updating the telephone and TTY telephone numbers for the San Francisco Office.

Accordingly, in the Notice of HUD's Fiscal Year (FY) 2005, Notice of Funding Availability (NOFA), Policy Requirements and General Section to the SuperNOFA for HUD's Discretionary Grant Programs, beginning at 70 FR 13575, published in the Federal Register on March 21, 2005, the following corrections are made.

Section 811 Program of Supportive Housing for Persons with Disabilities, beginning at page 14227:

On page 14228, Overview Information, section F., first column, is revised to read as follows:

F. Dates: Application Submission Date. The application submission date is June 10, 2005. Please refer to section IV of this NOFA and to the General Section for application submission requirements.

On page 14229, section II.A., third column, the first full paragraph is revised to read as follows:

Under the Section 811 Program, each local HUD Office jurisdiction receives sufficient capital advance funds for a minimum of 10 units with the exception of the Washington, DC Office, which has no separate allocation of Section 811 capital advance funds this fiscal year. Accordingly, the references to “each local HUD office” exclude the Washington, DC Office. (For those applicants that have received a waiver of the electronic application submission requirement, refer to Appendix A, Local HUD Offices, of this program NOFA for instructions on the submission of applications for proposals within the Washington, DC Office jurisdiction as well as the other local HUD offices.) The total amount of capital advance funds to support this minimum set-aside is then subtracted from the total capital advance available. The remainder is fair shared to each local HUD office jurisdiction whose fair share would exceed the set-aside based on the allocation formula fair share factors described below.

On page 14236, section IV.A., first column, add the following “note” at the end of the first paragraph to read as follows:

Note: For Section 811 applications that will have more than one applicant, i.e., Co-Sponsors, the applicants must designate a single individual to act as the authorized representative for all Co-Sponsors of the application. The designated authorized representative of the organization submitting the application must be registered with Grants.gov, the Federal Central Contractor Registry and with the credential provider for E-Authentication. Information on the Grants.gov registration process is found at http://www.grants.gov/GetStarted. When the application is submitted through Grants.gov, the name of the designated authorized representative will be inserted into the signature line of the application. Please note that the designated authorized representative must be able to make legally binding commitments for each Co-Sponsor to the application.

Each Co-Sponsor must complete the documents required of all co-sponsoring organizations to permit HUD to make a determination on the eligibility of the Co-Sponsor(s) and the acceptability of the application based on the assistance and commitments the Co-Sponsor(s) has pledged to the project. Therefore, each co-sponsor must submit the following information using the scanning and/or faxing method described in Section IV. of the General Section: Standard Form 424, Application for Federal Assistance; Standard Form 424 Supplement, Survey on Ensuring Equal Opportunity for Applicants; Standard Form LLL, Disclosure of Lobbying Activities (if applicable); Form HUD-92016-CA, Section 811 Application for Capital Advance, Summary Information; Form HUD-2530, Previous Participation Certification; Form HUD-92041, Sponsor's Conflict of Interest Resolution; Form HUD-92042, and Sponsor's Resolution for Commitment to Project. The forms identified above are available in the Program instructions package that can be downloaded from Grants.gov as well as HUD's Web site at http://www.hud.gov/offices/adm/grants/nofa05/snofaforms.cfm. The downloaded and completed forms should be saved as separate electronic files and attached to the electronic application submission following the requirements of Section IV.

As stated in the General Section, Section IV, forms and other documents from Co-Sponsors that will be scanned to create an electronic file and submitted as an attachment to the application should be labeled and numbered so the HUD reviewer can identify the file and its contents. If the applicant is creating an electronic file, the file should contain a header that identifies the name of the sponsor submitting the electronic application, that sponsor's DUNS number, and the unique ID that is found at the top of the Facsimile Transmission form found in the electronic application package. The naming convention for each electronic file should correspond to the labeling convention used in the application Table of Contents found on page 14236, column 3, of the Section 811 program NOFA. For example, the organizational documents of a Co-Sponsor would be included under Part II, Exhibit 2(a) of the Section 811 application. Electronic files can be attached to the electronic application using the Attachment Form contained in the electronic application package.

If the applicant cannot create an electronic file or does not have access to a scanner, the required signed documents may be submitted to accompany the electronic application by completing the required information and submitting it via facsimile, using Form HUD-96011, Facsimile Transmittal found in the electronic application package. Co-Sponsors should use the form HUD-96011 provided by the sponsor that is submitting the electronic application. The submitting sponsor should fill in the SF 424 form prior to giving the Form 96011 form to the Co-sponsors. By following these directions, the form HUD 96011 will be pre-populated with the submitting sponsor's organizational information exactly as the submitting sponsor has provided it on the electronic application. In addition, HUD will be using the unique identifier associated to the downloaded application package as a means of matching the faxing submitted with the applications received via Grants.gov. The Facsimile Transmittal form also has space to provide the number of pages being faxed and information on the type of document. Co-Sponsors or the submitting applicant can insert the document name in the space provided labeled Program Component.

Co-Sponsor's documents sent by facsimile as part of an electronic application submission, must use Form HUD-96011, Facsimile Transmittal that was downloaded with the application as the cover page. Do not insert any additional or other cover pages as it will cause problems in electronically matching the pieces of the application.

On page 14243, following section IV.B.2.d.(3), third column, add a new paragraph a to read as follows:

(m) Form HUD-96011, Facsimile Transmittal to be used for faxing third party letters and other documents for your electronic application in accordance with the instructions in the General Section.

On page 14255, section IV.E.5., middle column, paragraph 5 is revised to read as follows:

5. Expiration of Section 811 Funds. The Consolidated Appropriations Act, 2005, requires HUD to obligate all Section 811 funds appropriated for FY2005 by September 30, 2005. Under 31 U.S.C. 1551, no funds can be disbursed from this account after September 30, 2010. Under Section 811, obligation of funds occurs for both capital advances and project rental assistance upon fund reservation and acceptance. If all funds are not disbursed by HUD and expended by the project Owner by September 30, 2010, the funds, even though obligated, will expire and no further disbursements can be made from this account. In submitting an application, you need to carefully consider whether your proposed project can be completed through final capital advance closing no later than September 30, 2010. Furthermore, all unexpended balances, including any remaining balance on PRAC contracts, will be cancelled as of October 1, 2010. Amounts needed to maintain PRAC payments for any remaining term on the affected contracts beyond that date will have to be funded from other current appropriations.

On page 14256, section V.A.1.c., first column, remove from the first sentence the words “36 points” and add in its place the following: “36 months.”

On page 14256, section V.A.2., delete the third paragraph that begins in the middle column and continues to the third column. In addition, revise section V.A.2(a) which begins in the third column to read as follows:

(a) (10 Points) If a determination has been made that there is sufficient sustainable long-term demand for additional supportive housing for persons with disabilities in the area to be served, the project is to be awarded 10 points. If not, the project is to be awarded 0 points. No other point values are allowed.

On page 14262, Appendix A, Local HUD Offices, paragraph 2.c., is revised to read as follows:

c. Applications for projects proposed to be located in Washington, DC and Maryland must be submitted to the Baltimore, Maryland Office.

On page 14267, Appendix A, Local HUD Offices, the telephone and TTY telephone numbers for the San Francisco Office are revised to read as follows: telephone, (415) 489-6676; TTY, (415) 489-6564.

Dated: May 6, 2005.
Frank L. Davis,
General Deputy Assistant Secretary, Office of Housing.

[FR Doc. 05-9419 Filed 5-9-05; 8:45 am]

BILLING CODE 4210-32-P